DEPARTMENT OF HOUSING AND URBAN DEVELOPMENT

[Docket No. FR-5919-N-01]

60-Day Notice of Proposed Information Collection: Notice of Proposed Information Collection for Public Comment; Electronic Line of Credit Control System (eLOCCS) System Access

AGENCY: Office of the Chief Financial Officer, HUD.

ACTION: Notice of proposed information collection.

SUMMARY: The proposed information collection requirement described below will be submitted to the Office of Management and Budget (OMB) for review, as required by the Paperwork Reduction Act. The Department is soliciting public comments on the subject proposal.

This information collection is required by the Paperwork Reduction Act of 1995. HUD is soliciting public comments on the subject proposal.

DATES: Comments Due: November 25, 2016.

ADDRESSES: Interested persons are invited to submit comments regarding this proposal. Comments should refer to the proposal by name and/or OMB Control Number and should be sent to: Anna P. Guido, Reports Management Officer, QDAM, Department of Housing and Urban Development, 451 7th Street SW., Room 4176, Washington, DC 20410-5000; telephone 202-402-5534 (this is not a toll-free number) or email at Anna.P.Guido@hud.gov for a copy of the proposed forms or other available information. Persons with hearing or speech impairments may access this number through TTY by calling the toll-free Federal Relay Service at (800) 877-8339.

FOR FURTHER INFORMATION CONTACT: Dan Lam, Management Information Specialist, FYA, Department of Housing and Urban Development, 451 7th Street SW., Room 3204, Washington, DC 20410; email Dan Lam at Dan.Lam@hud.gov or telephone 202-402-3705. This is not a toll-free number. Persons with hearing or speech impairments may access this number through TTY by calling the toll-free Federal Relay Service at (800) 877-8339. Copies of available documents submitted to OMB may be obtained from Mr. Lam.

SUPPLEMENTARY INFORMATION: This notice informs the public that HUD is seeking approval from OMB for the information collection described in Section A.

A. Overview of Information Collection

Title of Information Collection: Electronic Line of Credit Control System (eLOCCS) System Access.

OMB Approval Number: 2535-0102.

Type of Request: Revision.

Form Number: Form HUD-27054.

Description of the need for the information and proposed use: Payment request vouchers for distribution of grant funds using the Electronic Line of Credit Control System (eLOCCS) System. An authorization form is submitted to establish access to the eLOCCS payment system.

Respondents (i.e. affected public): State or Local Government; Public Housing Agencies (PHAs), Individuals or Households.

Estimated Number of Respondents: 2,420.

Estimated Number of Responses: 2,420.

Frequency of Response: 1.

Average Hours per Response: 0.17.

Total Estimated Burdens: 411 hours, $21,372 total.

Information collection | Number of respondents | Frequency of response | Responses per annum | Burden hour per response | Annual burden hours | Hourly cost per response | Annual cost
HUD-27054 | 2,420 | 1 | 2,420 | 0.17 | 411 | $52 | $21,372
Total |  |  |  |  | 411 | 52 | 21,372

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

Authority: Section 3507 of the Paperwork Reduction Act of 1995, 44 U.S.C. Chapter 35.

Dated: September 20, 2016.
Simin D. Narins,
Director, Financial Systems Quality Assurance Division, FYA.

[FR Doc. 2016-23176 Filed 9-23-16; 8:45 am]

BILLING CODE 4210-67-P